DEPARTMENT OF HEALTH AND HUMAN SERVICES

Centers for Disease Control and Prevention

[60Day-10-0820]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Communities Putting Prevention to Work (OMB No. 0920-0820 Exp. 12/31/2009)—Reinstatement with Changes—National Center for Chronic Disease Prevention and Health Promotion (NCCDPHP), Centers for Disease Control and Prevention (CDC).

Background and Brief Description

The American Recovery and Reinvestment Act of 2009 was designed to stimulate economic recovery in various ways, including preserving and creating jobs, assisting those most impacted by the recession, stabilizing State and local government budgets, strengthening the Nation's healthcare infrastructure, and reducing healthcare costs through prevention activities. The Recovery Act included $650 million for evidence-based clinical and community-based prevention and wellness strategies that support specific, measurable health outcomes to reduce chronic disease rates. The legislation provides an important opportunity for states, cities, rural areas, and tribes to advance public health across the lifespan and to reduce health disparities.

In the Fall of 2009, the Centers for Disease Control and Prevention (CDC) announced funding opportunities under the ARRA-funded Communities Putting Prevention to Work (CPPW) initiative, and received OMB approval to collect information from applicants that assisted reviewers in determining the applicants' eligibility for awards (OMB No. 0920-0820, exp. 12/31/2009). This approval was received on an emergency basis and expired 12/31/2009. CDC seeks to reinstate this clearance in 2010, with changes, to support additional competitions for ARRA-funded supplemental awards. The new competitions will identify meritorious proposals for community mentoring activities that build upon activities previously described in RFA DP09-912, Community Approaches to Chronic Disease Prevention and Control, and state-specific behavioral risk factor surveillance activities described in RFA DP0-901, Healthy Communities, Tobacco Control, Diabetes Prevention and Control, and Behavioral Risk Factor Surveillance. The CPPW initiative is managed by the National Center for Chronic Disease Prevention and Health Promotion (NCCDPHP).

The CPPW initiative is designed to support intensive community approaches to chronic disease prevention and control in selected communities. Activities should be designed to achieve progress toward the following prevention outcomes: increased levels of physical activity; improved nutrition (e.g., increased fruit/vegetable consumption, reduced consumption of salt and transfats); decreased prevalence of overweight/obesity prevalence; decreased smoking prevalence and decreased teen smoking initiation; and decreased exposure to secondhand smoke. Respondents will be health departments representing States, territories, the District of Columbia, and Tribal communities.

CDC estimates that a total of 80 applications will be collected in 2010. The information submitted by respondents to CDC will be used to assure eligibility for CPPW awards and to determine optimal utilization of funding. All information will be collected electronically through the Grants.gov portal. Participation is voluntary and there are no costs to respondents other than their time.

Estimated Annualized Burden Hours
Type of respondent | Form name | Number of respondents | Number of responses per respondent | Average burden per response (in hours) | Total burden hours
Tribes and State and Local Health Departments | Application for Community Approaches to Chronic Disease Prevention and Control | 40 | 1 | 40 | 1,600
| Application for Supplemental Funding for Healthy Communities, Tobacco Control, Diabetes Prevention and Control and Behavioral Risk Factor Surveillance | 40 | 1 | 40 | 1,600
Total |  |  |  |  | 3,200

Dated: December 28, 2009.
Marilyn S. Radke,
Reports Clearance Officer, Centers for Disease Control and Prevention.

[FR Doc. E9-31130 Filed 12-31-09; 8:45 am]

BILLING CODE 4163-18-P